DEPARTMENT OF DEFENSE

GENERAL SERVICES ADMINISTRATION

NATIONAL AERONAUTICS AND SPACE ADMINISTRATION

[OMB Control No. 9000-0095; Docket No. 2022-0053; Sequence No. 21]

Submission for OMB Review; Federal Acquisition Regulation Part 27 Requirements

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve an extension of a previously approved information collection requirement regarding Federal Acquisition Regulation (FAR) part 27 requirements.

DATES: Submit comments on or before January 23, 2023.

ADDRESSES: Written comments and recommendations for this information collection should be sent within 30 days of publication of this notice to www.reginfo.gov/public/do/PRAMain. Find this particular information collection by selecting “Currently under Review—Open for Public Comments” or by using the search function.

Additionally, submit a copy to GSA through https://www.regulations.gov and follow the instructions on the site. This website provides the ability to type short comments directly into the comment field or attach a file for lengthier comments.

Instructions: All items submitted must cite OMB Control No. 9000-0095, Federal Acquisition Regulation Part 27 Requirements. Comments received generally will be posted without change to https://www.regulations.gov, including any personal and/or business confidential information provided. To confirm receipt of your comment(s), please check www.regulations.gov, approximately two-to-three days after submission to verify posting. If there are difficulties submitting comments, contact the GSA Regulatory Secretariat Division at 202-501-4755 or GSARegSec@gsa.gov.

FOR FURTHER INFORMATION CONTACT: Zenaida Delgado, Procurement Analyst, at telephone 202-969-7207, or zenaida.delgado@gsa.gov.

SUPPLEMENTARY INFORMATION:

A. OMB Control Number, Title, and Any Associated Form(s)

9000-0095, Federal Acquisition Regulation Part 27 Requirements.

B. Need and Uses

The Department of Defense, General Services Administration, and National Aeronautics and Space Administration are combining OMB Control Nos. by FAR part. This consolidation is expected to improve industry's ability to easily and efficiently identify burdens associated with a given FAR part. This review of the information collections by FAR part allows improved oversight to ensure there is no redundant or unaccounted for burden placed on industry. Lastly, combining information collections in a given FAR part is also expected to reduce the administrative burden associated with processing multiple information collections.

This justification supports the extension of OMB Control No. 9000-0095 and combines it with the previously approved information collections under OMB Control Nos. 9000-0090 and 0096, with the new title “Federal Acquisition Regulation Part 27 Requirements”. Upon approval of this consolidated information collection, OMB Control Nos. 9000-0090 and 9000-0096 will be discontinued. The burden requirements previously approved under the discontinued numbers will be covered under OMB Control No. 9000-0095.

This clearance covers the information that offerors and contractors must submit to comply with the following FAR requirements:

FAR 52.227-2, Notice and Assistance Regarding Patent and Copyright Infringement. This clause requires contractors to notify the Government of any allegations of patent or copyright infringement arising during the performance of the contract. The clause requires contractors to furnish, when requested by the contracting officer, all evidence and information in the contractor's possession regarding such a claim or suit. This clause flows down to subcontracts that are expected to exceed the simplified acquisition threshold (SAT—currently $250,000).

FAR 52.227-6, Royalty Information. This provision requires offerors to report all royalties anticipated or paid in excess of $250 for the use of patented inventions by furnishing:

(1) Name and address of licensor.

(2) Date of license agreement.

(3) Patent numbers, patent application serial numbers, or other basis on which the royalty is payable.

(4) Brief description, including any part or model numbers of each contract item or component on which the royalty is payable.

(5) Percentage or dollar rate of royalty per unit.

(6) Unit price of contract item.

(7) Number of units.

(8) Total dollar amount of royalties.

Also, the contracting officer may ask the offeror to provide a copy of the current license agreement identifying claims to specific patents.

FAR 52.227-9, Refund of Royalties. This clause requires contractors to furnish to the contracting officer, before final payment under a contract, a statement of royalties paid or required to be paid in connection with performing the contract. The clause requires contractors to notify the contracting officer if the contractor is relieved, within three years after final payment under the contract, from payment of royalties included in the final contract price. This clause flows down to subcontracts in which the amount of royalties reported during negotiation of the subcontract exceeds $250.

FAR 52.227-11, Patent Rights—Ownership by the Contractor, or 52.227-13, Patent Rights—Ownership by the Government—Commerce Patent Regulations. These FAR clauses require a Government contractor to report all inventions made in the performance of work under a Government contract or subcontract for experimental, developmental, or research work to the contracting officer, submit a disclosure of the invention, and identify any publication, sale, or public use of the invention (52.227-11(c), 52.227-13(e)(1)). The contracting officer may modify 52.227-11(e) or otherwise supplement the clause to require contractors to submit periodic or interim and final reports listing subject inventions (27.303(b)(2)(i) and (ii)). The contracting officer may also require a contractor, under FAR 52.227-11, to: provide the filing date, serial number, title, patent number and issue date for any patent application filed on any subject invention in any country or, upon request, copies of any patent application so identified; and furnish the Government an irrevocable power to inspect and make copies of the patent application file when a Government employee is a co-inventor. (27.303(b)(2)(iv) and (v). In order to ensure that subject inventions are reported, the contractor is required to establish and maintain effective procedures for identifying and disclosing subject inventions (52.227-11, Alternate IV; 52.227-13(e)(1)). In addition, the contractor must require its employees, by written agreements, to disclose subject inventions (52.227-11(e)(2); 52.227-13(e)(4)). The contractor also has an obligation to utilize the subject invention, and agree to report, upon request, the utilization or efforts to utilize the subject invention (27.302(e); 52.227-11(f)).

FAR 52.227-14, Rights in Data-General. This clause enables the contractor to protect qualifying limited rights data and restricted computer software by withholding the data from the Government and instead delivering form, fit, and function data. For unauthorized marking of data, the contractor may provide written justification to substantiate the propriety of the markings for the contracting officer to consider whether or not the markings are to be canceled or ignored. For omitted or incorrect markings of data that has not been disclosed without restriction outside the Government, the contractor may request, within 6 months (or a longer time approved by the contracting officer) after delivery of the data, permission to have authorized notices placed on the data at the contractor's expense. Contractors shall obtain from their subcontractors all data and rights necessary to fulfill the contractor's obligations to the Government under the contract. If a subcontractor refuses to accept terms affording the Government those rights, the contractor shall notify the contracting officer of the refusal.

FAR 52.227-15, Representation of Limited Rights Data and Restricted Computer Software. This provision requires an offeror to represent that it has reviewed the requirements for the delivery of technical data or computer software and state, in response to a solicitation, whether data proposed for fulfilling the data delivery requirements qualifies as limited rights data or restricted computer software. If the Government does not receive unlimited rights, the offeror must provide a list of the data that qualify as limited rights data or restricted computer software. The offeror would identify any proprietary data it would use during contract performance, in order that the contracting officer might ascertain if such proprietary data should be delivered.

FAR 52.227-16, Additional Data Requirements. This clause requires contractors to keep, for possible delivery to the Government, any data, in addition to data already required to be delivered under the contract, first produced or specifically used in performance of the contract for a period of three years from the final acceptance of all items delivered under the contract. The data delivered under this clause may be in the form of computations, preliminary data, records of experiments, etc. For any data to be delivered under this clause, the Government will pay the contractor for converting the data into a specific form, and for reproducing and delivering the data. The purpose of such recordkeeping requirements is to ensure that, if all data requirements are not known prior to contract award, the Government can fully evaluate the research in order to ascertain future activities and to insure that the research was completed and fully reported, as well as to give the public an opportunity to assess the research results and secure any additional information.

FAR 52.227-17, Rights in Data-Special Works. This clause is included in solicitations and contracts primarily for production or compilation of data. It is used in rare and exceptional circumstances to permit the Government to limit the contractor's rights in data by preventing the release, distribution, and publication of any data first produced in the performance of the contract. This clause may also be limited to particular items and not the entire contract. This clause requires contractors to assign (with or without registration), or obtain the assignment of, the copyright to the Government or its designated assignee.

FAR 52.227-18, Rights in Data-Existing Works. This clause is used when the Government is acquiring existing audiovisual or similar works, such as books, without modification. This clause requires contractors to obtain a license for the Government to reproduce, prepare derivative works, and perform and display publicly the materials.

FAR 52.227-19, Commercial Computer Software License. This clause requires contractors to affix a notice on any commercial software delivered under the contract that provides notice that the Government's rights regarding the data are set forth in the contract.

FAR 52.227-20, Rights in Data-SBIR Program. This clause authorizes contractors under Small Business Innovation Research (SBIR) contracts to affix a notice to SBIR data delivered under the contract to limit the Government's rights to disclose data first produced under the contract. For omitted or incorrect markings of data that has not been disclosed without restriction outside the Government, the contractor may request, within 6 months (or a longer time approved by the contracting officer) after delivery of the data, permission to have authorized notices placed on the data at the contractor's expense. Contractors shall obtain from their subcontractors all data and rights necessary to fulfill the contractor's obligations to the Government under the contract. If a subcontractor refuses to accept terms affording the Government those rights, the contractor shall notify the contracting officer of the refusal.

FAR 52.227-21, Technical Data Declaration, Revision, and Withholding of Payment-Major Systems. This clause requires major systems contractors to certify that the data delivered under the contract is complete, accurate, and compliant with the requirements of the contract.

FAR 52.227-23, Rights to Proposal Data (Technical). This clause allows the Government to identify pages of a proposal that would not be subject to unlimited rights in the technical data.

The information collected is used to protect the Government's rights and interests.

C. Annual Burden

Respondents/Recordkeepers: 1,121.

Total Annual Responses: 14,965.

Total Burden Hours: 54,633. (53,268 reporting hours + 1,365 recordkeeping hours)

D. Public Comment

A 60-day notice was published in the Federal Register at 87 FR 63070, on October 18, 2022. No comments were received.

Obtaining Copies: Requesters may obtain a copy of the information collection documents from the GSA Regulatory Secretariat Division by calling 202-501-4755 or emailing GSARegSec@gsa.gov. Please cite OMB Control No. 9000-0095, Federal Acquisition Regulation Part 27 Requirements.

Janet Fry,
Director, Federal Acquisition Policy Division, Office of Governmentwide Acquisition Policy, Office of Acquisition Policy, Office of Governmentwide Policy.

[FR Doc. 2022-27999 Filed 12-22-22; 8:45 am]

BILLING CODE 6820-EP-P